DEPARTMENT OF TRANSPORTATION

National Highway Traffic Safety Administration

49 CFR Part 541

[Docket No. NHTSA-2010-0098]

Final Theft Data; Motor Vehicle Theft Prevention Standard

AGENCY: National Highway Traffic Safety Administration (NHTSA), Department of Transportation.

ACTION: Publication of 2008 final theft data.

SUMMARY: This document publishes the final data on thefts of model year (MY) 2008 passenger motor vehicles that occurred in calendar year (CY) 2008. The final 2008 theft data indicated a decrease in the vehicle theft rate experienced in CY/MY 2008. The final theft rate for MY 2008 passenger vehicles stolen in calendar year 2008 is 1.69 thefts per thousand vehicles, a decrease of 8.65 percent from the rate of 1.85 thefts per thousand in 2007. Publication of these data fulfills NHTSA's statutory obligation to periodically obtain accurate and timely theft data and publish the information for review and comment.

DATES: Effective date: January 14, 2011.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: NHTSA administers a program for reducing motor vehicle theft. The central feature of this program is the Federal Motor Vehicle Theft Prevention Standard, 49 CFR Part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2008, the most recent calendar year for which data are available.

In calculating the 2008 theft rates, NHTSA followed the same procedures it used in calculating the MY 2007 theft rates. (For 2007 theft data calculations, see 75 FR 47720, August 9, 2010). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2008 theft rate for each vehicle line was calculated by dividing the number of reported thefts of MY 2008 vehicles of that line stolen during calendar year 2008 by the total number of vehicles in that line manufactured for MY 2008, as reported to the Environmental Protection Agency (EPA).

The final 2008 theft data show a decrease in the vehicle theft rate when compared to the theft rate experienced in CY/MY 2007. The final theft rate for MY 2008 passenger vehicles stolen in calendar year 2008 decreased to 1.69 thefts per thousand vehicles produced, a decrease of 8.65 percent from the rate of 1.85 thefts per thousand vehicles experienced by MY 2007 vehicles in CY 2007.

For MY 2008 vehicles, out of a total of 241 vehicle lines, 17 lines had a theft rate higher than 3.5826 per thousand vehicles, the established median theft rate for MYs 1990/1991. (See 59 FR 12400, March 16, 1994). Of the 17 vehicle lines with a theft rate higher than 3.5826, 14 are passenger car lines, three are multipurpose passenger vehicle lines, and none are light-duty truck lines.

A historical review of the 5-, 10- and 15-year theft trends show a substantial decrease in the vehicle theft rate when comparing the 2008 theft rate (1.69 thefts per thousand vehicles) to MY/CY's 1993, 1998 and 2003 theft rates. The 2008 rate is 57.54 percent lower than the CY/MY 1993 rate (3.98 thefts per thousand vehicles), 33.46 percent lower than the CY/MY 1998 rate (2.54 thefts per thousand vehicles) and 8.15 percent below the CY/MY 2003 rate (1.84 thefts per thousand vehicles). Overall as indicated by Figure 1, theft rates have continued to indicate a decreasing trend since CY/MY 1993, with periods of very moderate increases from one year to the next.

The agency believes that the theft rate reduction could be the result of several factors including the increased use of standard antitheft devices (i.e., immobilizers), vehicle parts marking, increased and improved prosecution efforts by law enforcement organizations and increased public awareness measures.

On Tuesday, August 17, 2010, NHTSA published the preliminary theft rates for CY 2008 passenger motor vehicles in the Federal Register (75 FR 5073). The agency tentatively ranked each of the MY 2008 vehicle lines in descending order of theft rate. The public was requested to comment on the accuracy of the data and to provide final production figures for individual vehicle lines. The agency used written comments to make the necessary adjustments to its data. As a result of the adjustments, some of the final theft rates and rankings of vehicle lines changed from those published in the August 2010 notice. The agency received written comments from Volkswagen Group of America, Inc. (VW) and Nissan North America, Inc. (Nissan).

Volkswagen informed the agency that the terms “Quattro” and “Avant” should be deleted from the Volkswagen and Audi vehicle line nomenclature. The Quattro and Avant nomenclature are used in EPA data to identify the 4-wheel drive system as the Quattro or the station wagon model as the Avant. VW stated that the Quattro and Avant are not part of the vehicle line name and therefore, are not relevant to the theft data listing. As a result of this comment, Quattro and Avant have been deleted from the vehicle line nomenclature for the Volkswagen and Audi vehicle lines. Therefore, the entry for the Audi A6/A6 Quattro/S6/S6 Avant has been changed to the Audi A6 and the Audi S6. The Audi A8/A8 Quattro entry is now listed as the Audi A8, the Audi S8/S8 Quattro entry is now listed as the Audi S8, the Audi A3/A3 Quattro entry is now listed as the Audi A3, the Audi A6/A6 Quattro/S6/S6 Avant entry is now listed as the Audi A6 and the Audi S6, and the Audi A4/A5//A4/A5 Quattro//S4/S4 Avant entry is now listed as the Audi A4/A5 and the Audi S4/S5. The final theft list has been revised to reflect these changes. Additionally, Volkswagen requested that its performance-related vehicle models be listed separately from its base model vehicle lines.

In its comments, VW informed the agency that the production volumes for the Audi S8, Audi A6, Audi S6, Audi A8, Volkswagen R32, Volkswagen Jetta/GLI, the Volkswagen Passat and the Audi TT are incorrect. In response to this comment, the production volume for the Audi S8, Audi A6, Audi S6, Audi A8, Volkswagen R32, Volkswagen Jetta/GLI, the Volkswagen Passat and the Audi TT have been corrected and the final theft list has been revised accordingly. As a result of the correction, the Audi S8 previously ranked No. 40 with a theft rate of 2.5974 remains ranked No. 40 with a theft rate of 2.5907, the Audi A6 previously ranked No. 86 with a theft rate of 1.4414 is now ranked No. No. 92 with a theft rate of 1.3990, the Audi S6 previously ranked No. 86 with a theft rate of 1.4414 is now ranked No. 48 with a theft rate of 1.3990, the Audi A8 previously ranked No. 141 with a theft rate of 0.8478 is now ranked No. 92 with a theft rate of 1.3990, the Volkswagen R32 previously ranked No. 60 with a theft rate of 1.8004 is now ranked No. 61 with a theft rate of 1.7996, the Volksgwagen Jetta/GLI previously ranked No. 75 with a theft rate of 1.5822 is now ranked No. 76 with a theft rate of 1.5821, the Volkswagen Passat previously ranked No. 144 with a theft rate of 0.8198 is now ranked No. 147 with a theft rate of 0.8197, and the Audi TT previously ranked No. 186 with a theft rate of 0.5048 is now ranked No. 188 with a theft rate of 2.5907.

In its comments, Nissan requested that the agency confirm the number of thefts for the Nissan Pathfinder. Reanalysis of the preliminary theft data provided for the Nissan Pathfinder revealed an error in the production volume for the line. Therefore, the agency has corrected the production volume reported for the Nissan Pathfinder. As a result of the reanalysis, the Nissan Pathfinder previously ranked No. 13 with a theft rate of 4.5523 is now ranked No. 30 with a theft rate of 3.0085.

Further reanalysis of the theft rate data revealed that the August 17, 2010 publication of preliminary theft data did not include the Toyota Matrix. NHTSA is correcting the final theft data to include the thefts and production volumes for the Toyota Matrix. As a result of this correction, the Toyota Matrix, previously not listed, is ranked No. 79 with a theft rate of 1.5487.

As a result of changes in the theft ranking, reanalysis of the theft rate data revealed that the number of vehicle lines reported with a theft rate higher than 3.5826 was incorrect. The publication of preliminary theft data for CY 2008 erroneously reported that there were 14 passenger cars, four multipurpose passenger vehicle lines and no light-duty truck lines with theft rates higher than 3.5826. NHTSA is correcting the final theft data to reflect that 14 passenger car lines, three multipurpose passenger vehicle lines, and no light truck lines with a theft rate higher than 3.5826.

The following list represents NHTSA's final calculation of theft rates for all 2008 passenger motor vehicle lines. This list is intended to inform the public of calendar year 2008 motor vehicle thefts of model year 2008 vehicles and does not have any effect on the obligations of regulated parties under 49 U.S.C. Chapter 331, Theft Prevention.

Final Report of Theft Rates for Model Year 2008 Passenger Motor Vehicles Stolen in Calendar Year 2008
Manufacturer | Make/model (line) | Thefts 2008 | Production (Mfr's) 2008 | 2008 Theft rate (per 1,000 vehicles produced)
1 CHRYSLER | DODGE MAGNUM | 208 | 15,319 | 13.5779
2 GENERAL MOTORS | PONTIAC GRAND PRIX | 436 | 64,268 | 6.7841
3 CHRYSLER | DODGE CHARGER | 728 | 110,895 | 6.5648
4 MITSUBISHI | GALANT | 77 | 11,986 | 6.4242
5 CHRYSLER | 300 | 483 | 76,295 | 6.3307
6 HYUNDAI | AZERA | 62 | 11,462 | 5.4092
7 CHRYSLER | SEBRING | 260 | 51,096 | 5.0885
8 CHRYSLER | PACIFICA | 83 | 16,384 | 5.0659
9 CHRYSLER | PT CRUISER CONVERTIBLE | 9 | 1,830 | 4.9180
10 HYUNDAI | SONATA | 429 | 87,456 | 4.9053
11 GENERAL MOTORS | CADILLAC STS | 82 | 17,517 | 4.6812
12 CHRYSLER | DODGE AVENGER | 641 | 137,543 | 4.6604
13 CHRYSLER | DODGE CALIBER | 387 | 91,288 | 4.2393
14 MAZDA | 6 | 182 | 44,114 | 4.1257
15 CHRYSLER | PT CRUISER | 254 | 65,485 | 3.8788
16 CHRYSLER | SEBRING CONVERTIBLE | 177 | 45,930 | 3.8537
17 HONDA | S2000 | 10 | 2,606 | 3.8373
18 GENERAL MOTORS | PONTIAC G6 | 549 | 154,317 | 3.5576
19 LAMBORGHINI | MURCIELAGO | 1 | 288 | 3.4722
20 NISSAN | INFINITI FX35 | 52 | 15,179 | 3.4258
21 NISSAN | MAXIMA | 131 | 38,602 | 3.3936
22 ISUZU | I SERIES PICKUP | 10 | 2,977 | 3.3591
23 MITSUBISHI | ECLIPSE | 70 | 21,046 | 3.3260
24 NISSAN | 350Z | 41 | 12,373 | 3.3137
25 BMW | M6 | 5 | 1,547 | 3.2321
26 SUZUKI | XL7 | 78 | 24,555 | 3.1765
27 ASTON MARTIN | DB9 | 1 | 323 | 3.0960
28 FORD MOTOR CO | MUSTANG | 287 | 94,476 | 3.0378
29 GENERAL MOTORS | CHEVROLET COBALT | 535 | 176,456 | 3.0319
30 NISSAN | PATHFINDER | 76 | 25,262 | 3.0085
31 KIA | SPECTRA | 181 | 60,253 | 3.0040
32 GENERAL MOTORS | CHEVROLET IMPALA | 923 | 320,116 | 2.8833
33 SUZUKI | FORENZA | 61 | 21,358 | 2.8561
34 ISUZU | ASCENDER | 3 | 1,063 | 2.8222
35 VOLVO | S40 | 33 | 11,753 | 2.8078
36 BMW | 7 | 38 | 13,599 | 2.7943
37 CHRYSLER | DODGE NITRO | 135 | 48,377 | 2.7906
38 GENERAL MOTORS | CHEVROLET MALIBU | 423 | 155,433 | 2.7214
39 KIA | RIO | 92 | 35,014 | 2.6275
40 AUDI | AUDI S8 | 1 | 386 | 2.5907
41 GENERAL MOTORS | PONTIAC G5 | 52 | 20,185 | 2.5762
42 GENERAL MOTORS | CHEVROLET AVEO | 139 | 56,070 | 2.4790
43 KIA | OPTIMA | 113 | 47,198 | 2.3942
44 GENERAL MOTORS | CADILLAC DTS | 97 | 40,809 | 2.3769
45 VOLVO | S60 | 32 | 13,592 | 2.3543
46 GENERAL MOTORS | CHEVROLET HHR | 219 | 99,176 | 2.2082
47 TOYOTA | COROLLA | 374 | 170,360 | 2.1954
48 AUDI | AUDI S6 | 2 | 928 | 2.1552
49 GENERAL MOTORS | CHEVROLET TRAILBLAZER | 215 | 100,805 | 2.1328
50 TOYOTA | SCION TC | 114 | 54,835 | 2.0790
51 SUZUKI | RENO | 10 | 4,840 | 2.0661
52 MERCEDES-BENZ | CL-CLASS | 22 | 10,679 | 2.0601
53 KIA | RONDO | 47 | 23,441 | 2.0050
54 CHRYSLER | JEEP GRAND CHEROKEE | 123 | 62,654 | 1.9632
55 JAGUAR LAND ROVER | XK | 3 | 1,542 | 1.9455
56 NISSAN | SENTRA | 230 | 119,932 | 1.9178
57 FORD MOTOR CO | FUSION | 259 | 137,791 | 1.8797
58 TOYOTA | 4RUNNER | 110 | 59,563 | 1.8468
59 TOYOTA | SCION XB | 111 | 60,553 | 1.8331
60 GENERAL MOTORS | PONTIAC G8 | 22 | 12,035 | 1.8280
61 VOLKSWAGEN | R32 | 9 | 5,001 | 1.7996
62 MITSUBISHI | ENDEAVOR | 17 | 9,583 | 1.7740
63 NISSAN | XTERRA | 63 | 36,035 | 1.7483
64 TOYOTA | AVALON | 107 | 61,851 | 1.7300
65 FORD MOTOR CO | CROWN VICTORIA | 16 | 9,299 | 1.7206
66 GENERAL MOTORS | CHEVROLET CORVETTE | 56 | 32,882 | 1.7031
67 JAGUAR LAND ROVER | S-TYPE | 3 | 1,779 | 1.6863
68 NISSAN | ALTIMA | 506 | 304,132 | 1.6638
69 GENERAL MOTORS | PONTIAC TORRENT | 47 | 28,370 | 1.6567
70 MAZDA | 5 | 27 | 16,389 | 1.6474
71 BENTLEY MOTORS | CONTINENTAL | 5 | 3,069 | 1.6292
72 CHRYSLER | JEEP PATRIOT | 99 | 61,495 | 1.6099
73 MITSUBISHI | LANCER | 70 | 43,668 | 1.6030
74 NISSAN | VERSA | 122 | 76,223 | 1.6006
75 MAZDA | TRIBUTE | 38 | 23,834 | 1.5944
76 VOLKSWAGEN | JETTA/GLI | 138 | 87,225 | 1.5821
77 FORD MOTOR CO | FOCUS | 284 | 180,249 | 1.5756
78 NISSAN | INFINITI M35/M45 | 26 | 16,522 | 1.5737
79 TOYOTA | MATRIX | 37 | 23,891 | 1.5487
80 MAZDA | 3 | 199 | 129,061 | 1.5419
81 GENERAL MOTORS | PONTIAC VIBE | 31 | 20,317 | 1.5258
82 TOYOTA | CAMRY/SOLARA | 390 | 257,638 | 1.5138
83 FORD MOTOR CO | MERCURY GRAND MARQUIS | 66 | 44,071 | 1.4976
84 AUDI | AUDI A3 | 8 | 5,378 | 1.4875
85 NISSAN | FRONTIER PICKUP | 70 | 47,215 | 1.4826
86 HYUNDAI | ACCENT | 76 | 51,562 | 1.4740
87 HYUNDAI | ELANTRA | 160 | 109,498 | 1.4612
88 KIA | SPORTAGE | 58 | 40,669 | 1.4261
89 TOYOTA | LEXUS SC | 4 | 2,807 | 1.4250
90 GENERAL MOTORS | PONTIAC SOLSTICE | 20 | 14,080 | 1.4205
91 GENERAL MOTORS | SATURN AURA | 85 | 60,715 | 1.4000
92 AUDI | AUDI A6 | 22 | 15,726 | 1.3990
93 HYUNDAI | SANTA FE | 107 | 76,765 | 1.3939
94 CHRYSLER | JEEP COMPASS | 36 | 26,147 | 1.3768
95 GENERAL MOTORS | CADILLAC XLR | 2 | 1,468 | 1.3624
96 MAZDA | CX-7 | 45 | 33,134 | 1.3581
97 NISSAN | INFINITI G37 | 39 | 29,182 | 1.3364
98 FORD MOTOR CO | EDGE | 170 | 128,607 | 1.3219
99 FORD MOTOR CO | TAURUS | 107 | 81,095 | 1.3194
100 VOLKSWAGEN | GOLF/RABBIT/GTI | 47 | 35,696 | 1.3167
101 GENERAL MOTORS | CHEVROLET UPLANDER VAN | 93 | 73,084 | 1.2725
102 GENERAL MOTORS | BUICK LACROSSE/ALLURE | 53 | 41,961 | 1.2631
103 FORD MOTOR CO | MERCURY MILAN | 41 | 32,608 | 1.2574
104 FORD MOTOR CO | MERCURY SABLE | 33 | 26,392 | 1.2504
105 MERCEDES-BENZ | S-CLASS | 33 | 26,436 | 1.2483
106 TOYOTA | YARIS | 147 | 120,841 | 1.2165
107 SUZUKI | SX4 | 51 | 42,522 | 1.1994
108 AUDI | AUDI S4/S5 | 3 | 2,514 | 1.1933
109 TOYOTA | SCION XD | 39 | 32,737 | 1.1913
110 JAGUAR LAND ROVER | XJ8/XJ8L | 3 | 2,556 | 1.1737
111 KIA | SEDONA VAN | 37 | 31,800 | 1.1635
112 GENERAL MOTORS | GMC ENVOY | 36 | 30,956 | 1.1629
113 GENERAL MOTORS | CADILLAC CTS | 73 | 62,943 | 1.1598
114 FORD MOTOR CO | LINCOLN TOWN CAR | 14 | 12,300 | 1.1382
115 MERCEDES-BENZ | CLK-CLASS | 22 | 19,420 | 1.1329
116 AUDI | AUDI A4/A5 | 51 | 45,063 | 1.1317
117 BMW | M5 | 3 | 2,666 | 1.1253
118 CHRYSLER | JEEP LIBERTY | 99 | 90,530 | 1.0936
119 GENERAL MOTORS | BUICK LUCERNE | 72 | 66,117 | 1.0890
120 TOYOTA | TACOMA PICKUP | 156 | 146,312 | 1.0662
121 KIA | SORENTO | 42 | 39,679 | 1.0585
122 SUZUKI | VITARA/GRAND VITARA | 19 | 17,996 | 1.0558
123 HONDA | ACCORD | 401 | 384,257 | 1.0436
124 HONDA | CIVIC | 368 | 355,443 | 1.0353
125 TOYOTA | HIGHLANDER | 139 | 137,668 | 1.0097
126 GENERAL MOTORS | SATURN SKY | 13 | 12,979 | 1.0016
127 NISSAN | QUEST VAN | 21 | 21,348 | 0.9837
128 CHRYSLER | JEEP WRANGLER | 118 | 120,710 | 0.9775
129 HYUNDAI | TIBURON | 10 | 10,315 | 0.9695
130 FORD MOTOR CO | ESCAPE | 239 | 249,322 | 0.9586
131 ASTON MARTIN | VANTAGE | 1 | 1,047 | 0.9551
132 HONDA | ACURA 3.2 TL | 54 | 56,720 | 0.9520
133 TOYOTA | LEXUS IS | 54 | 57,931 | 0.9321
134 HONDA | ELEMENT | 35 | 37,980 | 0.9215
135 TOYOTA | RAV4 | 150 | 164,331 | 0.9128
136 GENERAL MOTORS | CHEVROLET EQUINOX | 82 | 90,033 | 0.9108
137 TOYOTA | LEXUS GS | 18 | 20,030 | 0.8987
138 HONDA | ACURA RDX | 19 | 21,271 | 0.8932
139 VOLKSWAGEN | NEW BEETLE | 25 | 28,003 | 0.8928
140 SUBARU | FORESTER | 27 | 30,406 | 0.8880
141 FORD MOTOR CO | TAURUS X | 37 | 42,101 | 0.8788
142 TOYOTA | LEXUS LS | 25 | 28,875 | 0.8658
143 HONDA | ACURA TSX | 19 | 21,996 | 0.8638
144 AUDI | AUDI A8 | 2 | 2,360 | 0.8475
145 SUBARU | LEGACY | 22 | 26,288 | 0.8369
146 MASERATI | QUATTROPORTE | 1 | 1,196 | 0.8361
147 VOLKSWAGEN | PASSAT | 29 | 35,380 | 0.8197
148 PORSCHE | CAYMAN | 4 | 4,901 | 0.8162
149 MERCEDES-BENZ | C-CLASS | 64 | 78,747 | 0.8127
150 TOYOTA | FJ CRUISER | 34 | 41,931 | 0.8109
151 MERCEDES-BENZ | SL-CLASS | 3 | 3,708 | 0.8091
152 PORSCHE | 911 | 8 | 9,941 | 0.8047
153 JAGUAR LAND ROVER | XKR | 1 | 1,265 | 0.7905
154 HONDA | ACURA 3.5 RL | 4 | 5,132 | 0.7794
155 VOLVO | V70 | 3 | 3,862 | 0.7768
156 GENERAL MOTORS | SATURN VUE | 84 | 108,682 | 0.7729
157 VOLVO | XC90 | 23 | 30,004 | 0.7666
158 TOYOTA | LEXUS RX | 88 | 115,527 | 0.7617
159 JAGUAR LAND ROVER | LAND ROVER LR2 | 11 | 14,659 | 0.7504
160 BMW | 3 | 91 | 121,356 | 0.7499
161 FORD MOTOR CO | RANGER PICKUP | 63 | 85,052 | 0.7407
162 FORD MOTOR CO | MERCURY MARINER | 39 | 52,931 | 0.7368
163 VOLKSWAGEN | EOS | 10 | 13,815 | 0.7239
164 CHRYSLER | DODGE VIPER | 1 | 1,382 | 0.7236
165 GENERAL MOTORS | GMC CANYON PICKUP | 13 | 18,049 | 0.7203
166 HYUNDAI | TUCSON | 16 | 22,488 | 0.7115
167 NISSAN | INFINITI G35 | 39 | 56,155 | 0.6945
168 VOLVO | C70 | 5 | 7,220 | 0.6925
169 GENERAL MOTORS | CHEVROLET COLORADO PICKUP | 46 | 66,677 | 0.6899
170 BMW | Z4/M | 4 | 5,880 | 0.6803
171 NISSAN | ROGUE | 52 | 78,079 | 0.6660
172 BMW | 6 | 4 | 6,052 | 0.6609
173 TOYOTA | SIENNA VAN | 85 | 129,208 | 0.6579
174 BMW | 5 | 52 | 79,395 | 0.6550
175 JAGUAR LAND ROVER | VANDEN PLAS/SUPER V8 | 1 | 1,533 | 0.6523
176 SUBARU | IMPREZA | 38 | 59,340 | 0.6404
177 BMW | M3 | 5 | 7,854 | 0.6366
178 MERCEDES-BENZ | E-CLASS | 27 | 42,951 | 0.6286
179 HONDA | PILOT | 55 | 88,713 | 0.6200
180 CHRYSLER | CROSSFIRE | 1 | 1,648 | 0.6068
181 HONDA | FIT | 45 | 74,486 | 0.6041
182 HYUNDAI | VERACRUZ | 8 | 13,264 | 0.6031
183 FORD MOTOR CO | LINCOLN MKX | 22 | 36,884 | 0.5965
184 FORD MOTOR CO | LINCOLN MKZ | 19 | 32,457 | 0.5854
185 MAZDA | CX-9 | 20 | 36,033 | 0.5550
186 VOLVO | V50 | 1 | 1,875 | 0.5333
187 VOLVO | C30 | 3 | 5,865 | 0.5115
188 AUDI | AUDI TT | 4 | 7,925 | 0.5047
189 TOYOTA | PRIUS | 84 | 171,762 | 0.4890
190 HYUNDAI | ENTOURAGE VAN | 4 | 8,217 | 0.4868
191 SUBARU | B9 TRIBECA | 9 | 18,805 | 0.4786
192 BMW | X3 | 10 | 21,033 | 0.4754
193 MAZDA | RX-8 | 1 | 2,106 | 0.4748
194 MERCEDES-BENZ | SLK-CLASS | 2 | 4,379 | 0.4567
195 HONDA | ACURA MDX | 26 | 57,380 | 0.4531
196 SUBARU | OUTBACK | 28 | 63,741 | 0.4393
197 VOLVO | S80 | 5 | 11,433 | 0.4373
198 SAAB | 9-3 | 8 | 18,364 | 0.4356
199 MITSUBISHI | OUTLANDER | 6 | 14,445 | 0.4154
200 HONDA | CR-V | 82 | 228,315 | 0.3592
201 TOYOTA | LEXUS ES | 27 | 79,585 | 0.3393
202 KIA | AMANTI | 1 | 3,398 | 0.2943
203 BMW | MINI COOPER | 11 | 40,950 | 0.2686
204 NISSAN | INFINITI EX35 | 4 | 15,202 | 0.2631
205 MAZDA | MX-5 MIATA | 4 | 16,044 | 0.2493
206 VOLVO | XC70 | 3 | 12,793 | 0.2345
207 HONDA | ODYSSEY VAN | 28 | 135,622 | 0.2065
208 MERCEDES-BENZ | SMART FORTWO | 4 | 21,627 | 0.1850
209 GENERAL MOTORS | SATURN ASTRA | 3 | 17,912 | 0.1675
210 CHRYSLER | DODGE CHALLENGER | 1 | 6,411 | 0.1560
211 BMW | 1 | 1 | 11,887 | 0.0841
212 ALFA ROMEO | 8C | 0 | 84 | 0.0000
213 AUDI | AUDI R8 | 0 | 572 | 0.0000
214 AUDI | AUDI RS4 | 0 | 1,172 | 0.0000
215 BENTLEY MOTORS | ARNAGE | 0 | 63 | 0.0000
216 BENTLEY MOTORS | AZURE | 0 | 127 | 0.0000
217 BMW | B7 | 0 | 232 | 0.0000
218 BUGATTI | VEYRON | 0 | 18 | 0.0000
219 FERRARI | 141 | 0 | 324 | 0.0000
220 FERRARI | 430 | 0 | 1,032 | 0.0000
221 FERRARI | 612 SCAGLIETTI | 0 | 94 | 0.0000
222 FORD MOTOR CO. | SHELBY GT | 0 | 3,244 | 0.0000
223 GENERAL MOTORS | CADILLAC FUNERAL COACH/HEARSE | 0 | 967 | 0.0000
224 GENERAL MOTORS | CADILLAC LIMOUSINE | 0 | 664 | 0.0000
225 JAGUAR LAND ROVER | XJR | 0 | 114 | 0.0000
226 JAGUAR LAND ROVER | X-TYPE | 0 | 807 | 0.0000
227 LAMBORGHINI | GALLARDO | 0 | 792 | 0.0000
228 LOTUS | ELISE | 0 | 129 | 0.0000
229 LOTUS | EXIGE | 0 | 123 | 0.0000
230 MASERATI | GRANTURISMO | 0 | 1,465 | 0.0000
231 MAZDA | B SERIES PICKUP | 0 | 1,884 | 0.0000
232 MERCEDES-BENZ | MAYBACH 57 | 0 | 76 | 0.0000
233 MERCEDES-BENZ | MAYBACH 62 | 0 | 67 | 0.0000
234 MERCEDES-BENZ | SLR-CLASS | 0 | 105 | 0.0000
235 NISSAN | INFINITI FX45 | 0 | 395 | 0.0000
236 PORSCHE | BOXSTER | 0 | 4,067 | 0.0000
237 ROLLS ROYCE | PHANTOM | 0 | 378 | 0.0000
238 ROUSH PERFORMANCE | RPP MUSTANG | 0 | 1,491 | 0.0000
239 SAAB | 9-5 | 0 | 3,336 | 0.0000
240 SALEEN | S281/H302 | 0 | 370 | 0.0000
241 SPYKER | C8 | 0 | 6 | 0.0000

Issued on: December 16, 2010.
Joseph S. Carra,
Acting Associate Administrator for Rulemaking.

[FR Doc. 2011-773 Filed 1-13-11; 8:45 am]

BILLING CODE 4910-59-P